DEPARTMENT OF JUSTICE

Antitrust Division

Notice Pursuant to the National Cooperative Research and Production Act of 1993—Open Source Imaging Consortium, Inc.

Notice is hereby given that, on March 20, 2019, pursuant to Section 6(a) of the National Cooperative Research and Production Act of 1993, 15 U.S.C. 4301 et seq. (“the Act”), Open Source Imaging Consortium, Inc. has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Boehringer Ingelheim USA Corporation, Ridgefield, CT; Three Lakes Partners, Northbrook, IL; Siemens Healthcare GmbH, Erlangen, GERMANY; and Fluidda NV, Groeningenlei, BELGIUM. The general area of Open Source Imaging Consortium, Inc.'s planned activity is to define digital imaging biomarkers for idiopathic pulmonary fibrosis and fibrotic interstitial lung diseases (the “Medical Conditions”) in order to ensure accurate imaging-based diagnosis, prognosis and prediction of response to therapy, including: (a) Enabling the effective sharing, utilization, and analysis of data relating to the Medical Conditions;(b) establishing and sustaining Open Source Imaging Consortium, Inc. as the preferred data sharing and analytics platform for research relating to the Medical Conditions;(c) link academic, non-profit and corporate research communities for collaborative research facilitated by Open Source Imaging Consortium, Inc.;(d) align and grow a vibrant network of researchers and developers around the goals of Open Source Imaging Consortium, Inc.; and (e) undertaking such other activities as may from time to time be appropriate to further the purposes and achieve the goals set forth above.

Suzanne Morris,
Chief, Premerger and Division Statistics Unit, Antitrust Division.

[FR Doc. 2019-07255 Filed 4-11-19; 8:45 am]

BILLING CODE 4410-11-P